FEDERAL COMMUNICATIONS COMMISSION

47 CFR Part 73

[DA 04-3512; MB Docket No. 04-407, RM-11106; MB Docket No. 04-408, RM-11107; MB Docket No. 04-409, RM-11108; MB Docket No. 04-410, RM-11109]

Radio Broadcasting Services; Bertram, TX; Hawley, TX; Port Norris, NJ; Woodson, TX

AGENCY: Federal Communications Commission.

ACTION: Proposed rule.

SUMMARY: This document proposes four new FM broadcast allotments in Bertram, Texas; Hawley, Texas; Port Norris, New Jersey; Woodson, Texas. The Audio Division, Media Bureau, requests comment on a petition filed by Charles Crawford, proposing the allotment of Channel 284A at Bertram, Texas, as the community's first local aural transmission service. Channel 284A can be allotted to Bertram in compliance with the Commission's minimum distance separation requirements with a site restriction of 11.7 kilometers (7.2 miles) north of the community. The reference coordinates for Channel 284A at Bertram are 30-50-26 NL and 98-05-45 WL. See SUPPLEMENTARY INFORMATION, infra.

DATES: Comments must be filed on or before December 27, 2004, and reply comments on or before January 11, 2005.

ADDRESSES: Federal Communications Commission, 445 Twelfth Street, SW., Washington, DC 20554. In addition to filing comments with the FCC, interested parties should serve the petitioner, his counsel, or consultant, as follows: Charles Crawford, 4553 Bordeaux Avenue, Dallas, Texas 75205; Dana J. Puopolo, 2134 Oak Street, Unit C, Santa Monica, California 90405.

FOR FURTHER INFORMATION CONTACT: Victoria M. McCauley, Media Bureau, (202) 418-2180.

SUPPLEMENTARY INFORMATION: This is a synopsis of the Commission's Notice of Proposed Rule Making, MB Docket Nos. 04-407, 04-408, 04-409, 04-410, adopted November 3, 2004, and released November 5, 2004. The full text of this Commission document is available for inspection and copying during regular business hours at the FCC's Reference Information Center, Portals II, 445 Twelfth Street, SW., Room CY-A257, Washington, DC 20554. The complete text of this decision may also be purchased from the Commission's duplicating contractor, Best Copy and Printing, Inc., 445 12th Street, SW., Room CY-B402, Washington, DC 20054, telephone 1-800-378-3160 or http://www.BCPIWEB.com.

The Audio Division requests comments on a petition filed by Charles Crawford, proposing the allotment of Channel 269A at Hawley, Texas, as the community's first local aural transmission service and modify the site for vacant Channel 270C1 at Munday, Texas. Channel 269A can be allotted at Hawley at a site 9.8 kilometers (6.1 miles) southeast of the community. The reference coordinates for Channel 296A at Hawley are 32-32-30 NL and 99-45-00 WL, and the reference coordinates for Channel 270C1 at Munday are 33-44-53 NL and 99-42-14 WL.

The Audio Division requests comments on a petition filed by Dana Puopolo, proposing the allotment of Channel 299A at Port Norris, New Jersey, as the community's first local aural transmission service. Channel 299A can be allotted to Port Norris in compliance with the Commission's minimum distance separation requirements without a site restriction. The reference coordinates for Channel 299A at Port Norris are 39-14-47 NL and 75-02-04 WL.

The Audio Division requests comments on a petition filed by Charles Crawford proposing the allotment of Channel 298A at Woodson, Texas, as the community's first local aural transmission service. Channel 298A can be allotted to Woodson in compliance with the Commission's minimum distance separation requirements without a site restriction. The reference coordinates for Channel 298A at Woodson are 33-00-53 NL and 99-03-14 WL.

Provisions of the Regulatory Flexibility Act of 1980 do not apply to this proceeding.

Members of the public should note that from the time a Notice of Proposed Rule Making is issued until the matter is no longer subject to Commission consideration or court review, all ex parte contacts are prohibited in Commission proceedings such as this one, which involve channel allotments. See 47 CFR 1.1204(b) for rules governing permissible ex parte contact.

For information regarding proper filing procedures for comments, see 47 CFR 1.415 and 1.420.

List of Subjects in 47 CFR Part 73

Radio, Radio broadcasting.

For the reasons discussed in the preamble, the Federal Communications Commission proposes to amend 47 CFR part 73 as follows:

PART 73—RADIO BROADCAST SERVICES

1. The authority citation for part 73 continues to read as follows:

Authority: 47 U.S.C. 154, 303, 334 and 336.

§ 73.202 [Amended]

2. Section 73.202(b), the Table of FM Allotments under Texas is amended by adding Bertram, Channel 284A, by adding Hawley, Channel 269A, and by adding Woodson, Channel 298A.

3. Section 73.202(b), the Table of FM Allotments under New Jersey, is amended by adding Port Norris, Channel 299A.

Federal Communications Commission.
John A. Karousos,
Assistant Chief, Audio Division, Media Bureau.

[FR Doc. 04-25808 Filed 11-19-04; 8:45 am]

BILLING CODE 6712-01-P